DEPARTMENT OF AGRICULTURE

Forest Service

Humboldt-Toiyabe National Forest; Nevada; Withdrawal of Notice of Intent To Prepare an Environmental Impact Statement for the Humboldt-Toiyabe Integrated Invasive Plant Treatment Project

AGENCY: Forest Service, Agriculture (USDA).

ACTION: Notice; withdrawal.

SUMMARY: The Humboldt-Toiyabe National Forest is withdrawing its notice of intent (NOI) to prepare an environmental impact statement (EIS) for the Humboldt-Toiyabe Integrated Invasive Plant Treatment Project.

FOR FURTHER INFORMATION CONTACT: Questions concerning this notice should be directed to Humboldt-Toiyabe Natural Resource Staff Officer Kendal Young, at kendal.young@usda.gov or 775-355-5313. Individuals who use telecommunication devices for the deaf and hard of hearing (TDD) may call the Federal Information Relay Service (FIRS) at 800-877-8339, 24 hours a day, every day of the year, including holidays.

SUPPLEMENTARY INFORMATION: The original NOI was published in the Federal Register on March 2, 2018 (83 FR 8963). The Forest Supervisor has determined the EIS should be withdrawn due to changes in the scope and scale of the project that have occurred since the publication of the NOI in the Federal Register. With the change in the proposed action our preliminary analysis indicates there may not be effects that rise to a level of significance that would warrant an EIS.

Dated: July 18, 2023.
Troy Heithecker,
Associate Deputy Chief, National Forest System.

[FR Doc. 2023-15597 Filed 7-21-23; 8:45 am]

BILLING CODE 3411-15-P